DEPARTMENT OF COMMERCE

International Trade Administration

[A-403-801, C-403-802]

Continuation of Antidumping and Countervailing Duty Orders: Fresh and Chilled Atlantic Salmon from Norway

AGENCY: Import Administration, International Trade Administration, Department of Commerce.

SUMMARY: As a result of the determinations by the Department of Commerce (the “Department”) and the International Trade Commission (the “ITC”) that revocation of the antidumping duty (“AD”) order on fresh and chilled Atlantic salmon (“salmon”) from Norway would likely lead to continuation or recurrence of dumping; that revocation of the countervailing duty (“CVD”) order on salmon from Norway would likely lead to continuation or recurrence of a countervailable subsidy; and that revocation of these AD and CVD orders would likely lead to a continuation or recurrence of material injury to an industry in the United States, the Department is publishing this notice of the continuation of these AD and CVD orders.

EFFECTIVE DATE: February 13, 2006.

FOR FURTHER INFORMATION CONTACT: Zev Primor (AD order), Tipten Troidl (CVD order), AD/CVD Operations, Import Administration, International Trade Administration, U.S. Department of Commerce, 14th Street & Constitution Avenue NW., Washington, DC 20230; telephone: (202) 482-4114 and (202) 482-1767, respectively.

SUPPLEMENTARY INFORMATION:

Background

On February 2, 2005, the Department initiated and the ITC instituted sunset reviews of the AD and CVD orders on salmon from Norway, pursuant to sections 751(c) and 752 of the Tariff Act of 1930, as amended (the “Act”), respectively. See Notice of Initiation of Five-year (“Sunset”) Reviews, 70 FR 5415 (February 2, 2005). As a result of its reviews, the Department found that revocation of the AD order would likely lead to continuation or recurrence of dumping and that revocation of the CVD order would likely lead to continuation or recurrence of subsidization, and notified the ITC of the margins of dumping and the subsidy rates likely to prevail were the orders revoked. See Fresh and Chilled Atlantic Salmon From Norway: Final Results of the Full Sunset Review of Antidumping Duty Order, 70 FR 77378 (December 30, 2005) and Final Results of Expedited Sunset Review of Countervailing Duty Order: Fresh and Chilled Atlantic Salmon From Norway, 70 FR 53345 (September 8, 2005) (collectively, “Final Results”).

On February 1, 2006, the ITC determined that revocation of the AD and CVD orders on salmon from Norway would likely lead to continuation or recurrence of material injury within a reasonably foreseeable time. See Fresh and Chilled Atlantic Salmon From Norway, 71 FR 5373 (February 1, 2006) (“ITC Determination”) and USITC Publication 3835 (January 2006), entitled Fresh and Chilled Atlantic Salmon from Norway (Inv. Nos. 701-TA-302 and 731-TA-454 (Second Review)).

Scope of the Orders

The merchandise covered by the AD and CVD orders is the species Atlantic salmon (Salmon Salar) marketed as specified herein; the order excludes all other species of salmon: Danube salmon, Chinook (also called “king” or “quinnat”), Coho (“silver”), Sockeye (“redfish” or “blueback”), Humpback (“pink”) and Chum (“dog”). Atlantic salmon is a whole or nearly-whole fish, typically (but not necessarily) marketed gutted, bled, and cleaned, with the head on. The subject merchandise is typically packed in fresh-water ice (“chilled”). Excluded from the subject merchandise are fillets, steaks and other cuts of Atlantic salmon. Also excluded are frozen, canned, smoked or otherwise processed Atlantic salmon. Atlantic salmon is currently provided for under the Harmonized Tariff Schedule of the United States (“HTSUS”) subheadings 0302.12.0003 and 0302.12.0004. The HTSUS subheadings are provided for convenience and customs purposes. The written description remains dispositive.

Determination

As a result of the determinations by the Department and the ITC that revocation of these AD and CVD orders would likely lead to continuation or recurrence of dumping or a countervailable subsidy, and of material injury to an industry in the United States, pursuant to section 751(d)(2) of the Act, the Department hereby orders the continuation of the AD and CVD orders on salmon from Norway. U.S. Customs and Border Protection will continue to collect cash deposits at the rates in effect at the time of entry for all imports of subject merchandise. The effective date of the continuation of these orders is the date of publication in the Federal Register of this Notice of Continuation.

Pursuant to sections 751(c)(2) and 751(c)(6) of the Act, the Department intends to initiate the next five-year review of these orders not later than January 2011.

These five-year (sunset) reviews and notice are in accordance with section 751(c) of the Act and published pursuant to section 777(i)(1) of the Act.

Dated: February 7, 2006.
Joseph A. Spetrini,
Acting Assistant Secretary for Import Administration.

[FR Doc. E6-1983 Filed 2-10-06; 8:45 am]

BILLING CODE 3510-DS-S